DEPARTMENT OF HOMELAND SECURITY

Coast Guard

33 CFR Part 117

[USCG-2012-0017]

Drawbridge Operation Regulations; Cheesequake Creek, Morgan, NJ

AGENCY: Coast Guard, DHS.

ACTION: Notice of temporary deviation from regulations.

SUMMARY: The Commander, First Coast Guard District, has issued a temporary deviation from the regulation governing the operation of the New Jersey Transit Rail Operation (NJTRO) Railroad Bridge across Cheesequake Creek, mile 0.2, at Morgan, New Jersey. Under this temporary deviation, the bridge may remain in the closed position for four days to facilitate scheduled bridge repairs.

DATES: This deviation is effective from 6 a.m. on February 11, 2012 through 12 p.m. on March 4, 2012.

ADDRESSES: Documents mentioned in this preamble as being available in the docket are part of docket USCG-2012-0017 and are available online at www.regulations.gov, inserting USCG-2012-0017 in the “Keyword” and then clicking “Search”. They are also available for inspection or copying at the Docket Management Facility (M-30), U.S. Department of Transportation, West Building Ground Floor, Room W12-140, 1200 New Jersey Avenue SE., Washington, DC, 20590, between 9 a.m. and 5 p.m., Monday through Friday, except Federal holidays.

FOR FURTHER INFORMATION CONTACT: If you have questions on this rule, call or email Mr. Joe Arca, Project Officer, First Coast Guard District, joe.m.arca@uscg.mil, or (212) 668-7165. If you have questions on viewing the docket, call Renee V. Wright, Program Manager, Docket Operations, telephone 202-366-9826.

SUPPLEMENTARY INFORMATION:

The NJTRO railroad bridge has a vertical clearance of 3 feet at mean high water, and 8 feet at mean low water in the closed position. The existing drawbridge operating regulations are found at 33 CFR 117.709(b).

The bridge owner, New Jersey Transit Rail Operations (NJTRO), requested a bridge closure to facilitate structural track repairs at the bridge.

Under this temporary deviation, the NJTRO railroad bridge may remain in the closed position on two weekends from 6 a.m. on February 11, 2012 through 12 noon on February 12, 2012 and from 6 a.m. on February 25, 2012 through 12 noon on February 26, 2012.

In the event of inclement weather the above repairs will be undertaken on two alternate weekends from 6 a.m. on February 25, 2012 through 12 noon on February 26, 2012 and from 6 a.m. on March 3, 2012 through 12 noon on March 4, 2012.

Cheesequake Creek is predominantly a recreational waterway. The bridge rarely opens in the winter months when this temporary deviation will be in effect.

In accordance with 33 CFR 117.35(e), the bridge must return to its regular operating schedule immediately at the end of the designated repair period. This deviation from the operating regulations is authorized under 33 CFR 117.35.

Dated: January 25, 2012.
Gary Kassof,
Bridge Program Manager, First Coast Guard District.

[FR Doc. 2012-2778 Filed 2-6-12; 8:45 am]

BILLING CODE 9110-04-P